DEPARTMENT OF ENERGY

Federal Energy Regulatory Commission

Combined Notice of Filings #1

Take notice that the Commission received the following electric corporate filings:

Docket Numbers: EC24-104-000.

Applicants: Berkshire Power Company, LLC.

Description: Application for Authorization Under Section 203 of the Federal Power Act of Berkshire Power Company, LLC.

Filed Date: 7/19/24.

Accession Number: 20240719-5195.

Comment Date: 5 p.m. ET 8/9/24.

Take notice that the Commission received the following electric rate filings:

Docket Numbers: ER24-1832-001; ER24-1941-001.

Applicants: Liberty County Solar Project, LLC, North Fork Solar Project, LLC.

Description: Notice of Non-Material Change in Status of North Fork Solar Project, LLC, et al.

Filed Date: 7/18/24.

Accession Number: 20240718-5192.

Comment Date: 5 p.m. ET 8/8/24.

Docket Numbers: ER24-2545-000.

Applicants: Pacific Gas and Electric Company.

Description: Tariff Amendment: Termination of PG&E Redwood Valley ES UOG (SA No. 495) to be effective .9/18/2024.

Filed Date: 7/19/24.

Accession Number: 20240719-5000.

Comment Date: 5 p.m. ET 8/9/24.

Docket Numbers: ER24-2546-000.

Applicants: Portland General Electric Company.

Description: 205(d) Rate Filing: PGE Northern Grid Funding Agreement Concurrence to be effective 1/1/2024.

Filed Date: 7/19/24.

Accession Number: 20240719-5001.

Comment Date: 5 p.m. ET 8/9/24.

Docket Numbers: ER24-2547-000.

Applicants: Portland General Electric Company.

Description: Tariff Amendment: PGE Northen Grid Funding Agreement Cancellation to be effective 12/31/2023.

Filed Date: 7/19/24.

Accession Number: 20240719-5002.

Comment Date: 5 p.m. ET 8/9/24.

Docket Numbers: ER24-2548-000.

Applicants: New York Independent System Operator, Inc., Power Authority of the State of New York.

Description: 205(d) Rate Filing: New York Independent System Operator, Inc. submits tariff filing per 35.13(a)(2)(iii): NYISO-NYPA Joint 205: Amended MTFIA with CHPE SA2710 (CEII) to be effective 7/8/2024.

Filed Date: 7/19/24.

Accession Number: 20240719-5028.

Comment Date: 5 p.m. ET 8/9/24.

Docket Numbers: ER24-2549-000.

Applicants: FirstEnergy Pennsylvania Electric Company, PJM Interconnection, L.L.C.

Description: 205(d) Rate Filing: FirstEnergy Pennsylvania Electric Company submits tariff filing per 35.13(a)(2)(iii: MAIT—FE submits Revised Interconnection Agreement, SA No. 6412 to be effective 9/18/2024.

Filed Date: 7/19/24.

Accession Number: 20240719-5043.

Comment Date: 5 p.m. ET 8/9/24.

Docket Numbers: ER24-2550-000.

Applicants: Southern California Edison Company.

Description: 205(d) Rate Filing: First Amended LGIA Sloth TOT349 SA No. 192 to be effective 7/20/2024.

Filed Date: 7/19/24.

Accession Number: 20240719-5089.

Comment Date: 5 p.m. ET 8/9/24.

Docket Numbers: ER24-2551-000.

Applicants: Tucson Electric Power Company.

Description: 205(d) Rate Filing: Service Agreement No. 546, Large Generator Interconnection Agreement to be effective 6/20/2024.

Filed Date: 7/19/24.

Accession Number: 20240719-5094.

Comment Date: 5 p.m. ET 8/9/24.

Docket Numbers: ER24-2552-000.

Applicants: Basin Electric Power Cooperative.

Description: Initial rate filing: Submission of Service Agreement No. 120 to be effective 10/1/2024.

Filed Date: 7/19/24.

Accession Number: 20240719-5101.

Comment Date: 5 p.m. ET 8/9/24.

Docket Numbers: ER24-2553-000.

Applicants: Midcontinent Independent System Operator, Inc.

Description: 205(d) Rate Filing: 2024-07-19_SA 4310 ITC Transmission-DTE Electric Belle River GIA (M1113) to be effective 7/10/2024.

Filed Date: 7/19/24.

Accession Number: 20240719-5116.

Comment Date: 5 p.m. ET 8/9/24.

Docket Numbers: ER24-2554-000.

Applicants: Alabama Power Company, Georgia Power Company, Mississippi Power Company.

Description: Tariff Amendment: Alabama Power Company submits tariff filing per 35.15: Origis Holdings USA Subco (Villa Rica I Storage) LGIA Termination Filing to be effective 7/19/2024.

Filed Date: 7/19/24.

Accession Number: 20240719-5127.

Comment Date: 5 p.m. ET 8/9/24.

Docket Numbers: ER24-2555-000.

Applicants: Alabama Power Company, Georgia Power Company, Mississippi Power Company.

Description: Tariff Amendment: Alabama Power Company submits tariff filing per 35.15: Origis Holdings USA Subco (Villa Rica II Storage) LGIA Termination Filing to be effective 7/19/2024.

Filed Date: 7/19/24.

Accession Number: 20240719-5128.

Comment Date: 5 p.m. ET 8/9/24.

Docket Numbers: ER24-2556-000.

Applicants: Alabama Power Company, Georgia Power Company, Mississippi Power Company.

Description: 205(d) Rate Filing: Alabama Power Company submits tariff filing per 35.13(a)(2)(iii: Tatum Pines Amended and Restated LGIA Filing to be effective 7/11/2024.

Filed Date: 7/19/24.

Accession Number: 20240719-5129.

Comment Date: 5 p.m. ET 8/9/24.

Docket Numbers: ER24-2557-000.

Applicants: Henrietta BESS LLC.

Description: Baseline eTariff Filing: Baseline new to be effective 7/20/2024.

Filed Date: 7/19/24.

Accession Number: 20240719-5171.

Comment Date: 5 p.m. ET 8/9/24.

Docket Numbers: ER24-2558-000.

Applicants: Hanford BESS LLC.

Description: Baseline eTariff Filing: Baseline new to be effective 7/20/2024.

Filed Date: 7/19/24.

Accession Number: 20240719-5173.

Comment Date: 5 p.m. ET 8/9/24.

Docket Numbers: ER24-2559-000.

Applicants: Malaga BESS LLC.

Description: Baseline eTariff Filing: Baseline new to be effective 7/20/2024.

Filed Date: 7/19/24.

Accession Number: 20240719-5175.

Comment Date: 5 p.m. ET 8/9/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 19, 2024.
Debbie-Anne A. Reese,
Acting Secretary.

[FR Doc. 2024-16384 Filed 7-24-24; 8:45 am]

BILLING CODE 6717-01-P